DEPARTMENT OF ENERGY

Federal Energy Regulatory Commission

[Docket No. ER00-565-009, et al.]

Pacific Gas and Electric Company , et al.; Electric Rate and Corporate Filings

May 21, 2004.

The following filings have been made with the Commission. The filings are listed in ascending order within each docket classification.

1. Pacific Gas and Electric Company

[Docket No. ER00-565-009]

Take notice that on May 18, 2004, Pacific Gas and Electric Company (PG&E) tendered for filing its Phase II filing in the Scheduling Coordinator Services Tariff (SCS Tariff) proceeding. PG&E initially filed the SCS Tariff on November 12, 1999.

PG&E states that copies of this filing have been served upon the California Public Utilities Commission and all parties designated on the Official Service List compiled by the Federal Energy Regulatory Commission in FERC Docket ER00-565-000 and the ISO.

Comment Date: June 8, 2004.

2. Westar Energy, Inc.

[Docket No. ER02-2516-002]

Take notice that on May 19, 2004, Westar Energy, Inc. (Westar) amended its May 7, 2004, filing in Docket No. ER02-2516-001. Westar states that this amendment converts the City of Wamego's contract, inadvertently omitted from Westar's May 7, 2004, compliance filing, to an Order No. 614 compliant format and reflects the corporate name change to Westar.

Westar states that a copy of this filing was served upon the Kansas Corporation Commission and the affected customers.

Comment Date: June 9, 2004.

3. Southern California Edison Company

[Docket No. ER04-435-004]

Take notice that on May 19, 2004, Southern California Edison Company (SCE) tendered for filing revisions to its Wholesale Distribution Access Tariff (WDAT) in compliance with Commission's Order issued March 5, 2004, in Order No. 2003-A, Order on Rehearing, Standardization of Generator Interconnection Agreements and Procedures.

SCE states that copies of this filing were served upon each party designated on the official service list compiled by the Secretary in these proceedings.

Comment Date: June 9, 2004.

4. PJM Interconnection, L.L.C.

[Docket No. ER04-774-001]

Take notice that on May 19, 2004, PJM Interconnection, L.L.C. (PJM) amended its April 29, 2004, filing in Docket No. ER04-774-000. PJM states that in the April 29, 2004, filing, PJM submitted amendments to Schedule 2 of the PJM Open Access Transmission Tariff . PJM also states that it amended its April 29, 2004, filing to include CBLLC's revenue requirement in the list of revenue requirements for the PPL zone rather than for the DPL zone. PJM requests a waiver of the Commission's notice requirements to permit an effective date of April 1, 2004, for Sub 2nd Rev Seventh Revised Sheet No. 230, and an effective date of May 1, 2004, for Substitute Ninth Revised Sheet No. 230.

PJM states that copies of this filing have been served on all PJM members, including AE Supply, Mon Power, CBLLC, and MWGen, each State electric utility regulatory commission in the PJM region, and each person designated on the official service list compiled by the Secretary in this proceeding.

Comment Date: June 9, 2004.

5. PJM Interconnection, L.L.C.

[Docket No. ER04-796-002]

Take notice that on May 14, 2004, PJM Interconnection, L.L.C. (PJM) tendered for filing an executed Transition Service Agreement with Exelon Generation Company, L.L.C. for use solely in connection with a dynamic schedule to the Hannibal, Ohio facility of Ormet Primary Aluminum Corporation. PJM states that the agreement ratifies, amends, and replaces, effective May 15, 2004, the unexecuted service agreement filed by PJM in the proceeding on April 30, 2004. PJM further states that the service agreement is intended solely as a short-term transitional agreement to accommodate continuation for a few months of the unique arrangements that were in place for service to Ormet prior to the integration of Commonwealth Edison Company into PJM. PJM requests that the Commission waive certain otherwise applicable provisions of its tariff to accommodate continuation of this dynamic schedule through its short remaining term.

PJM requests that the agreement be accepted effective May 15, 2004, and therefore requests waiver of the 60-day notice requirement. PJM states that copies of this filing were served upon ExGen and the state commissions in the PJM region.

Comment Date: June 4, 2004.

6. Bangor Hydro-Electric Company

[Docket No. ER04-853-000]

Take notice that on May 19, 2004, Bangor Hydro-Electric Company (BHE) filed proposed revisions to its FERC Open Access Transmission Tariff (OATT) to reflect minor modifications to BHE's existing “Rate Formula” to comply with changes made by the Commission to the FERC Annual Report Form 1 and to correct a reference in a footnote. BHE requests an effective date of June 1, 2004.

BHE states that copies of this filing were served on all interested parties.

Comment Date: June 9, 2004.

7. Entergy Services, Inc., et al.

[Docket No. ER04-854-000]

Take notice that on May 19, 2004, Entergy Services, Inc. (ESI), on behalf of Entergy Louisiana, Inc. (ELI) as purchaser, and Entergy Gulf States, Inc. (EGS) as seller, filed under section 205 of the Federal Power Act for approval an amendment to the master power purchase and sale agreement between ELI and EGS that the Commission accepted for filing in Docket No. ER03-744-000. ESI request an effective date of May 30, 2004, subject to refund.

ESI states that copies of this filing were served on the affected state utility commissions and members of the official service list.

Comment Date: June 9, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1253 Filed 6-3-04; 8:45 am]

BILLING CODE 6717-01-P